NATIONAL AERONAUTICS AND SPACE ADMINISTRATION

48 CFR Part 1852

RIN 2700-AC97

Representations and Certifications—Other Than Commercial Items

AGENCY: National Aeronautics and Space Administration.

ACTION: Final rule.

SUMMARY: This rule adopts as final with change the interim rule published in the Federal Register on March 22, 2004 (69 FR 13260). The interim rule revised the NASA Federal Acquisition Regulation (FAR) Supplement (NFS) by amending the Offeror Representations and Certifications—Other Than Commercial Items provision used in solicitations for non-commercial simplified acquisitions to conform with changes made to the FAR by Federal Acquisition Circulars (FAC) 2001-14 and 2001-19. This final rule adopts the interim rule with a change to conform to changes made to the FAR by FAC 2001-23.

DATES: Effective Date: July 27, 2004.

FOR FURTHER INFORMATION CONTACT: Celeste Dalton, NASA, Office of Procurement, Contract Management Division (Code HK); (202) 358-1645; e-mail: Celeste.M.Dalton@nasa.gov.

SUPPLEMENTARY INFORMATION:

A. Background

NASA FAR Supplement (NFS) provision 1852.213-70, Offeror Representations and Certifications—Other Than Commercial Items, provides a consolidated set of representations and certifications for use under non-commercial simplified acquisitions. The interim rule published in the Federal Register on March 22, 2004 (69 FR 13260) amended NFS section 1852.213-70 to conform to changes made to FAR provisions 52.225-4 and 52.225-6 by FACs 01-14 and 01-19, and changes made to 52.225-2 by FAC 01-14. These FAR provisions are included as paragraphs (e) and (f) of 1852.213-70. Specifically, FAC 01-14 clarified the use of the term “United States,” when used in a geographic sense and provided a definition of “outlying areas” of the United States, a term that encompasses the named outlying commonwealths, territories, and minor outlying islands. In addition to changes required in paragraphs (e) and (f) of 1852.213-70, a change is required in the introductory text of paragraph (c) as a result of the definition of “outlying areas”. FAC 01-19 made changes to implement the new Free Trade Agreements with Chile and Singapore, as approved by Congress (Pub. L. 108-77 and 108-78). These changes included removing references to “North American Free Trade Agreement” and incorporating the new concept of “Free Trade Agreements” in FAR provisions 52.225-4 and 52.225-6. In addition to the changes resulting from FACs 01-14 and 01-19, the interim rule revised 1852.213-70 to incorporate the definition of “service-disabled veteran” into the definition of “service-disabled veteran-owned small business concern” consistent with FAR 2.101(b). The interim rule also updated and corrected references and made minor editorial changes. No comments were received in response to the interim rule.

The interim rule is being adopted as final with a change to correct an ambiguity in the definition of a service-disabled veteran-owned small business (SDVOSB) concern at 1852.213-70 consistent with change in the definition of a SDVOSB concern in FAC 2001-23. Including this clarification is not considered a significant change and is therefore appropriate for inclusion in this final rule.

This is not a significant regulatory action and, therefore, was not subject to review under section 6(b) of Executive Order 12866, Regulatory Planning and Review, dated September 30, 1993. This final rule is not a major rule under 5 U.S.C. 804.

B. Regulatory Flexibility Act

NASA certifies that this final rule will not have a significant economic impact on a substantial number of small entities within the meaning of the Regulatory Flexibility Act, 5 U.S.C. 601, et seq. because acquisitions under $100,000 that are set aside for small businesses are exempt from trade agreements and these representations and certifications only apply to non-commercial acquisitions less than $100,000; and the change to the definition of service-disabled veteran-owned small business concern is merely a clarification of the definition.

C. Paperwork Reduction Act

The Paperwork Reduction Act does not apply because the changes do not impose and new recordkeeping or information collection requirements which require the approval of the Office of Management and Budget under 44 U.S.C. 3501, et seq.

List of Subjects in 48 CFR Part 1852

Government procurement.

Tom Luedtke,
Assistant Administrator for Procurement.

Accordingly, NASA adopts the interim rule amending 48 CFR part 1852, which was published in the Federal Register on March 22, 2004 (69 FR 13260) as a final rule amended as follows:

1. The authority citation for 48 CFR part 1852 continues to read as follows:

Authority: 42 U.S.C. 2473(c)(1).

PART 1852—SOLICITATION PROVISIONS AND CONTRACT CLAUSES

2. Amend section 1852.213-70 by revising the date of the provision; and in paragraph (a), revising paragraph (1)(ii) of the definition of “Service-disabled veteran-owned small business concern” to read as follows:

1852.213-70 Offeror Representations and Certifications—Other Than Commercial Items.

* * * * *

Offeror Representations and Certifications—Other Than Commercial Items (July 2004)

(a) * * *

“Service-disabled veteran-owned small business concern”—

(1) * * *

(ii) The management and daily business operations of which are controlled by one or more service-disabled veterans or, in the case of a service-disabled veteran with permanent and severe disability, the spouse or permanent caregiver of such veteran.

* * * * *

[FR Doc. 04-17064 Filed 7-26-04; 8:45 am]

BILLING CODE 7510-01-P